DEPARTMENT OF THE INTERIOR

Bureau of Land Management

[MT-926-08-1420-BJ-TRST]

Montana: Filing of Plat of Survey

AGENCY: Bureau of Land Management, Montana State Office, Interior.

ACTION: Notice of Filing of Plat of Survey.

SUMMARY: The Bureau of Land Management (BLM) will file the plat of survey of the lands described below in the BLM Montana State Office, Billings, Montana, (30) days from the date of publication in the Federal Register.

FOR FURTHER INFORMATION CONTACT: Marvin Montoya, Cadastral Surveyor, Branch of Cadastral Survey, Bureau of Land Management, 5001 Southgate Drive, Billings, Montana 59101-4669, telephone (406) 896-5124 or (406) 896-5009.

SUPPLEMENTARY INFORMATION: This survey was executed at the request of the Fort Peck Agency, through the Rocky Mountain Regional Director, Bureau of Indian Affairs, and was necessary to determine Trust and Tribal land.

The lands we surveyed are:

Principal Meridian Montana

T. 26 N., R. 44 E.

The plat, in 2 sheets, representing the dependent resurvey of a portion of the east boundary, a portion of the subdivisional lines, the adjusted original meanders of the former left bank of the Missouri River, downstream, through section 12, a portion of the subdivision of section 12, and survey of a portion of the meanders of the present left bank of the Missouri River, downstream, through section 12, the informative traverse of the present left bank of the Missouri River, downstream, through section 12, and certain division of accretion lines, Township 26 North, Range 44 East, Principal Meridian, Montana, was accepted February 1, 2008.

We will place copies of the plat, in 2 sheets, and related field notes we described in the open files. They will be available to the public as a matter of information.

If BLM receives a protest against this survey, as shown on this plat, in 2 sheets, prior to the date of the official filing, we will stay the filing pending our consideration of the protest.

We will not officially file this plat, in 2 sheets, until the day after we have accepted or dismissed all protests and they have become final, including decisions or appeals.

Dated: March 7, 2008.
James D. Claflin,
Acting Chief Cadastral Surveyor, Division of Resources.

[FR Doc. E8-5007 Filed 3-12-08; 8:45 am]

BILLING CODE 4310-$$-P